COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete a product and services from the Procurement List that were furnished by nonprofit agencies employing persons who are blind or have other severe disabilities.

DATES: Comments must be received on or before: March 15, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product and services are proposed for deletion from the Procurement List:

Product

NSN—Product Name: MR 11056—Grocery Shopping Tote Bag, Laminated, Halloween, Trick or Treat, Small

Mandatory Source of Supply: Industries for the Blind and Visually Impaired, Inc., West Allis, WI

Contracting Activity: Military Resale-Defense Commissary Agency

Services

Service Type: Switchboard Operation

Mandatory for: Veterans Affairs Medical Center: 3601 South 6th Avenue, Washington, DC

Mandatory Source of Supply: Southern Arizona Association for the Visually Impaired deleted, Tucson, AZ

Contracting Activity: VETERANS AFFAIRS, DEPARTMENT OF, NAC

Service Type: Janitorial/Custodial

Mandatory for: Veterans Affairs Medical Center, Omaha, NE

Contracting Activity: VETERANS AFFAIRS, DEPARTMENT OF, NAC

Service Type: Custodial Services

Mandatory for: Food and Drug Administration, 1114 Market Street (9th & 10th floors only), St. Louis, MO

Mandatory Source of Supply: MGI Services Corporation, St. Louis, MO

Contracting Activity: PUBLIC BUILDINGS SERVICE, GSA/PUBLIC BUILDINGS SERVICE

Service Type: Janitorial/Custodial

Mandatory for: U.S. Federal Building and Post Office, Bozeman, MT

Contracting Activity: GENERAL SERVICES ADMINISTRATION, FPDS AGENCY COORDINATOR

Service Type: Janitorial/Custodial

Mandatory for: Federal Center: 620 Central Avenue, Alameda, CA

Mandatory Source of Supply: Rubicon Programs, Inc., Richmond, CA

Contracting Activity: GENERAL SERVICES ADMINISTRATION, FPDS AGENCY COORDINATOR

Service Type: JWOD Staffing Services

Mandatory for: GSA, Nationwide

Contracting Activity: GENERAL SERVICES ADMINISTRATION, FPDS AGENCY COORDINATOR

Service Type: Janitorial/Custodial

Mandatory for: Southeast Federal Center: Building at 49 L Street, SE, Washington, DC

Mandatory Source of Supply: Davis Memorial Goodwill Industries, Washington, DC

Contracting Activity: PUBLIC BUILDINGS SERVICE, WPHCC—WEST O&M CONTRACTS BRANCH

Service Type: Custodial Services

Mandatory for: DLA Warren Depot, Warren, OH

Mandatory Source of Supply: VGS, Inc., Cleveland, OH

Contracting Activity: DEFENSE LOGISTICS AGENCY, DLA STRATEGIC MATERIALS

Service Type: Janitorial/Custodial

Mandatory for: Social Security Administration, Clinton, MD

Mandatory Source of Supply: Davis Memorial Goodwill Industries, Washington, DC

Contracting Activity: GENERAL SERVICES ADMINISTRATION, FPDS AGENCY COORDINATOR

Service Type: Janitorial/Custodial

Mandatory for: U.S. Army Reserve Center: 271 Hedges Street Scouten, Mansfield, OH

Contracting Activity: DEPT OF THE ARMY, W6QM MICC FT MCCOY (RC)

Service Type: Janitorial/Custodial Service

Mandatory for: Social Security Administration District Office Building, Montclair, New Jersey

Mandatory Source of Supply: Fedcap Rehabilitation Services, Inc., New York, NY

Contracting Activity: PUBLIC BUILDINGS SERVICE, GSA PBS R2 ACQUISITION MANAGEMENT DIVISION

Service Type: Janitorial/Custodial

Mandatory for: Fort McPherson: USARC Headquarters, Atlanta, GA

Contracting Activity: DEPT OF THE ARMY, W6QM MICC-FDO FT SAM HOUSTON

Service Type: Litter Pickup

Mandatory for: Robins Air Force Base, Robins AFB, GA

Contracting Activity: DEPT OF THE AIR FORCE, FA8501 AFSC PZIO

Service Type: Vehicle Retrofitting Srvc limited to FPI surplus

Mandatory for: Good Vocations, Inc., Macon, GA

Mandatory Source of Supply: Good Vocations, Inc., Macon, GA

Contracting Activity: BUREAU OF CUSTOMS AND BORDER PROTECTION, SBI ACQUISITION OFFICE

Service Type: Administrative Service

Mandatory for: Federal Office Building: 225 W King Street, Martinsburg, WV

Mandatory Source of Supply: Job Squad, Inc., Bridgeport, WV

Contracting Activity: GENERAL SERVICES ADMINISTRATION, FPDS AGENCY COORDINATOR

Service Type: Administrative Support, Supply and Warehousing Service

Mandatory for: Orlando Naval Training Center, Orlando, FL

Contracting Activity: DEPT OF THE NAVY, NAVAL AIR WARFARE CENTER

Service Type: Grounds Maintenance

Mandatory for: Fort Gillem: SE Army Reserve Intelligence Center, Fort Gillem, GA

Contracting Activity: DEPT OF THE ARMY, W40M RHCO-ATLANTIC USAHCA

Service Type: Grounds Maintenance

Mandatory for: U.S. Army Reserve Center: 1011 George Boulevard, Akron, OH

Contracting Activity: DEPT OF THE ARMY, W40M RHCO-ATLANTIC USAHCA

Service Type: Janitorial/Custodial

Mandatory for: U.S. Army Reserve, SGT George Lenkalis USARC, West Hazleton, PA

Mandatory Source of Supply: Portco, Inc., Portsmouth, VA

Contracting Activity: DEPT OF THE ARMY, W6QK ACC-PICA

Service Type: Janitorial/Grounds Maintenance

Mandatory for: Tucson Air Operations, Tucson, AZ

Mandatory Source of Supply: J.P. Industries, Inc., Tucson, AZ

Contracting Activity: U.S. CUSTOMS AND BORDER PROTECTION, BORDER ENFORCEMENT CONTRACTING DIVISION

Service Type: Facility Support Services

Mandatory for: Social Security Administration: Southeastern Program Service Center, Birmingham, AL

Mandatory Source of Supply: Alabama Goodwill Industries, Inc., Birmingham, AL

Contracting Activity: SOCIAL SECURITY ADMINISTRATION, REGION 04—SOUTHEAST PROGRAM SERVICE CENTER

Service Type: Demilitarization of Military Hardware

Mandatory for: Robins Air Force Base, Robins AFB, GA

Contracting Activity: DEPT OF THE AIR FORCE, FA8501 AFSC PZIO

Service Type: Operation of Postal Service Center

Mandatory for: Shaw Air Force Base, Shaw AFB, SC

Contracting Activity: DEPT OF THE AIR FORCE, FA4803 20 CONS LGCA

Patricia Briscoe,
Deputy Director, Business Operations (Pricing and Information Management).

[FR Doc. 2020-02979 Filed 2-13-20; 8:45 am]

BILLING CODE 6353-01-P